DEPARTMENT OF TRANSPORTATION

Federal Aviation Administration

14 CFR Part 39

[Docket No. FAA-2007-29061; Directorate Identifier 2006-NM-243-AD]

RIN 2120-AA64

Airworthiness Directives; McDonnell Douglas Model DC-8-11, DC-8-12, DC-8-21, DC-8-31, DC-8-32, DC-8-33, DC-8-41, DC-8-42, and DC-8-43 Airplanes; Model DC-8F-54 and DC-8F-55 Airplanes; Model DC-8-50, -60, -60F, -70, and -70F Series Airplanes; Model DC-9-10, -20, -30, -40, and -50 Series Airplanes; Model DC-9-81 (MD-81), DC-9-82 (MD-82), DC-9-83 (MD-83), and DC-9-87 (MD-87) Airplanes; and Model MD-88 Airplanes

AGENCY: Federal Aviation Administration (FAA), Department of Transportation (DOT).

ACTION: Notice of proposed rulemaking (NPRM).

SUMMARY: The FAA proposes to supersede an existing airworthiness directive (AD) that applies to certain McDonnell Douglas airplanes. The existing AD currently requires an initial general visual or dye penetrant inspection, repetitive dye penetrant inspections, and replacement, as necessary, of the rudder pedal bracket. The existing AD also requires, for certain airplanes, replacing the rudder pedal bracket assemblies with new, improved parts, which would terminate the repetitive inspections. This proposed AD would, for certain airplanes, reduce initial inspection thresholds, remove an inspection option, and lengthen the repetitive inspection intervals. This proposed AD results from reports of failures of the captain's rudder pedal brackets before reaching the initial inspection threshold identified in the existing AD. We are proposing this AD to prevent failure of the rudder pedal bracket assembly, which could result in the loss of rudder and braking control at either the captain's or first officer's position.

DATES: We must receive comments on this proposed AD by October 15, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024) for service information identified in this proposed AD.

FOR FURTHER INFORMATION CONTACT: Wahib Mina, Aerospace Engineer, Airframe Branch, ANM-120L, FAA, Los Angeles Aircraft Certification Office, 3960 Paramount Boulevard, Lakewood, California 90712-4137; telephone (562) 627-5324; fax (562) 627-5210.

SUPPLEMENTARY INFORMATION:

Comments Invited

We invite you to submit any relevant written data, views, or arguments regarding this proposed AD. Send your comments to an address listed in the ADDRESSES section. Include the docket number “Docket No. FAA-2007-29061; Directorate Identifier 2006-NM-243-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the street address stated in the ADDRESSES section. Comments will be available in the AD docket shortly after the Docket Management System receives them.

Discussion

On March 31, 2006, we issued AD 2006-07-25, amendment 39-14552 (71 FR 18201, April 11, 2006), for certain McDonnell Douglas Model DC-8-11, DC-8-12, DC-8-21, DC-8-31, DC-8-32, DC-8-33, DC-8-41, DC-8-42, and DC-8-43 airplanes; Model DC-8F-54 and DC-8F-55 airplanes; Model DC-8-50, -60, -60F, and -70 series airplanes; Model DC-9-10, -20, -30, -40, and -50 series airplanes; Model DC-9-81 (MD-81), DC-9-82 (MD-82), DC-9-83 (MD-83), and DC-9-87 (MD-87) airplanes; and Model MD-88 airplanes. That AD requires an initial general visual or dye penetrant inspection, repetitive dye penetrant inspections, and replacement, as necessary, of the rudder pedal bracket. The existing AD also requires, for certain airplanes, replacing the rudder pedal bracket assemblies with new, improved parts, which would terminate the repetitive inspections. That AD resulted from a report of numerous cracked rudder pedal brackets found during inspections of certain affected airplanes. We issued that AD to prevent failure of the rudder pedal bracket assembly, which could result in the loss of rudder and braking control at either the captain's or first officer's position.

Actions Since Existing AD Was Issued

Since we issued AD 2006-07-25, two Model MD-80 operators have reported failures of the captain's rudder pedal brackets before reaching the initial inspection threshold of 40,000 total landings specified in AD 2006-07-25. One operator reported finding a crack in the first officer's rudder pedal bracket at 34,000 landings. Lab analysis of these parts verified that fatigue was the cause of the failure. Boeing re-evaluated the current inspection interval and determined that lowering the initial threshold to 25,000 total landings is necessary for operators of Model DC-9-81 (MD-81), DC-9-82 (MD-82), DC-9-83 (MD-83), and DC-9-87 (MD-87) airplanes; and Model MD-88 airplanes.

Boeing also determined that the general visual inspection for cracks is no longer necessary because the eddy current and dye penetrant inspections are adequate for Model DC-9-10, -20, -30, -40, and -50 series airplanes; Model DC-9-81 (MD-81), DC-9-82 (MD-82), DC-9-83 (MD-83), and DC-9-87 (MD-87) airplanes; and Model MD-88 airplanes. In addition, Boeing has lengthened the repetitive inspection interval for the eddy current and any applicable dye penetrant inspection (also called “special detailed inspections”) for these airplanes from intervals not to exceed 2,500 landings to intervals not to exceed 3,000 landings.

Clarification of Applicability

We have also clarified the applicability to include Model DC-8-71F, DC-8-72F, and DC8-73F airplanes. These models were inadvertently omitted from Table 1, paragraph (c), “Applicability,” of AD 2006-07-25. However, these models were included in the effectivity of McDonnell Douglas DC-8 Alert Service Bulletin A27-273, dated May 16, 1989, which we referred to in AD 2006-07-25 as a source for identifying airplanes affected by that AD.

Relevant Service Information

We have reviewed Boeing Alert Service Bulletin DC9-27A307, Revision 7, dated August 29, 2006. We referred to an earlier revision of this same service bulletin (McDonnell Douglas DC-9 Alert Service Bulletin A27-307, Revision 6, dated December 19, 1994) as the appropriate source of service information for doing certain actions in AD 2006-07-25.

The actions in Boeing Alert Service Bulletin DC9-27A307, Revision 7, are essentially the same as those in McDonnell Douglas DC-9 Alert Service Bulletin A27-307, Revision 6. However, Boeing Alert Service Bulletin DC9-27A307, Revision 7, revises certain inspection thresholds and intervals. Revision 7 also removes a general visual inspection for certain airplanes and, instead, specifies a special detailed inspection. The special detailed inspection consists of either doing an eddy current inspection for cracking of the rudder pedal bracket assemblies and, if any crack is found, doing a penetrant inspection for cracking; or doing the penetrant inspection for cracking of the rudder pedal bracket assemblies. Revision 7 includes a definition of a special detailed inspection.

FAA's Determination and Requirements of the Proposed AD

We have evaluated all pertinent information and identified an unsafe condition that is likely to develop on other airplanes of the same type design. For this reason, we are proposing this AD, which would supersede AD 2006-07-25 and would retain the requirements of the existing AD. This proposed AD would also, for certain airplanes, reduce certain initial inspection thresholds, remove an inspection option, and lengthen certain repetitive inspection intervals.

Explanation of Changes to Existing AD

We have changed the parts cost for the replacement to reflect the cost information in the current Boeing service information.

We have revised this action to clarify the appropriate procedure for notifying the principal inspector before using any approved AMOC on any airplane to which the AMOC applies.

We have revised references to certain service information to more accurately reflect the reference as cited on the service information itself.

We have added a new paragraph (f) titled “Service Information and Airplane Categories” to reduce the length of the references to both in the AD itself. We have re-identified the paragraphs accordingly, and revised this action to refer to the airplane categories rather than list the models individually. We have also removed Note 2 of the existing AD because the new paragraph (f) makes the contents of the note unnecessary.

Costs of Compliance

There are about 1,840 airplanes of the affected design in the worldwide fleet. The following table provides the estimated costs for U.S. operators to comply with this proposed AD. The replacements are applicable only to Model DC-9-10, -20, -30, -40, and -50 series airplanes; Model DC-9-81 (MD-81), DC-9-82 (MD-82), DC-9-83 (MD-83), and DC-9-87 (MD-87) airplanes; and Model MD-88 airplanes.

Estimated Costs
Action | Work hours | Average labor rate per hour | Parts | Cost per airplane | Number of U.S.-registered airplanes | Fleet cost
General visual inspection (required by AD 2006-07-25) | 3 | $80 | None | $240, per inspection cycle | 250 | $60,000, per inspection cycle.
Dye penetrant (special detailed) inspection (required by AD 2006-07-25) | 5 | 80 | None | $400, per inspection cycle | 946 | $378,400, per inspection cycle.
Replacements (required by AD 2006-07-25) | 9 | 80 | $9,466 | $10,186 | up to 946 | up to $9,635,956.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14552 (71 FR 18201, April 11, 2006) and adding the following new airworthiness directive (AD):

McDonnell Douglas: Docket No. FAA-2007-29061; Directorate Identifier 2006-NM-243-AD.

Comments Due Date

(a) The FAA must receive comments on this AD action by October 15, 2007.

Affected ADs

(b) This AD supersedes AD 2006-07-25.

Applicability

(c) This AD applies to the airplanes identified in Table 1 of this AD, certificated in any category.

Table 1.—Applicability
McDonnell Douglas— | As identified in—
Model DC-8-11, DC-8-12, DC-8-21, DC-8-31, DC-8-32, DC-8-33, DC-8-41, DC-8-42, and DC-8-43 airplanes; Model DC-8-51, DC-8-52, DC-8-53, and DC-8-55 airplanes; Model DC-8F-54 and DC-8F-55 airplanes; Model DC-8-61, DC-8-62, and DC-8-63 airplanes; Model DC-8-61F, DC-8-62F, and DC-8-63F airplanes; Model DC-8-71, DC-8-72, and DC-8-73 airplanes; Model DC-8-71F, DC-8-72F, and DC-8-73F airplanes | McDonnell Douglas DC-8 Alert Service Bulletin A27-273, Revision 5, dated February 18, 1993.
Model DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; Model DC-9-81 (MD-81), DC-9-82 (MD-82), DC-9-83 (MD-83), and DC-9-87 (MD-87) airplanes; and Model MD-88 airplanes | Boeing Alert Service Bulletin DC9-27A307, Revision 7, dated August 29, 2006.

Unsafe Condition

(d) This AD results from reports of failures of the captain's rudder pedal brackets before reaching the initial inspection threshold identified in AD 2006-07-25. We are issuing this AD to prevent failure of the rudder pedal bracket assembly, which could result in the loss of rudder and braking control at either the captain's or first officer's position.

Compliance

(e) You are responsible for having the actions required by this AD performed within the compliance times specified, unless the actions have already been done.

Service Information and Airplane Categories

(f) The term “service bulletin,” as used in this AD, means the Accomplishment Instructions of the applicable service bulletin identified in Table 2 of this AD. The term “airplane category,” as used in this AD, means the category identified in Table 2 of this AD.

Table 2.—Service Information and Airplane Categories
For Model— | Called airplane category— | Use this service bulletin—
(1) DC-8-11, DC-8-12, DC-8-21, DC-8-31, DC-8-32, DC-8-33, DC-8-41, DC-8-42, and DC-8-43 airplanes; Model DC-8-51, DC-8-52, DC-8-53, and DC-8-55 airplanes; Model DC-8F-54 and DC-8F-55 airplanes; Model DC-8-61, DC-8-62, and DC-8-63 airplanes; Model DC-8-61F, DC-8-62F, and DC-8-63F airplanes; Model DC-8-71, DC-8-72, and DC-8-73 airplanes | 1 | McDonnell Douglas DC-8 Alert Service Bulletin A27-273, Revision 1, dated May 16, 1989; or Revision 5, dated February 18, 1993.
(2) DC-8-71F, DC-8-72F, and DC-8-73F airplanes | 2 |
(3) DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes | 3 | McDonnell Douglas DC-9 Alert Service Bulletin A27-307, Revision 1, dated May 16, 1989; or Boeing Alert Service Bulletin DC9-27A307, Revision 7, dated August 29, 2006 (after the effective date of this AD, only Revision 7 may be used).
(4) DC-9-81 (MD-81), DC-9-82 (MD-82), DC-9-83 (MD-83), and DC-9-87 (MD-87) airplanes; and Model MD-88 airplanes | 4 |

Requirements of AD 2006-07-25

Initial Inspection Threshold

(g) For airplane categories 1, 3, and 4, prior to the accumulation of 40,000 total landings or within 30 days after July 5, 1989 (the effective date of AD 89-14-02, amendment 39-6245, which was superseded by AD 2006-07-25), whichever occurs later: Perform either a general visual inspection, dye penetrant inspection, or special detailed inspection (eddy current with dye penetrant or just dye penetrant), as applicable, for cracking of the captain's and first officer's rudder pedal bracket, part numbers (P/N) 5616067 and 5616068, respectively, in accordance with the Accomplishment Instructions of the applicable service bulletin specified in Table 2 of this AD. After the effective date of this AD, only the special detailed inspection specified in Boeing Alert Service Bulletin DC9-27A307, Revision 7, may be used for airplanes identified in Revision 7. For airplane category 4: Do the inspection required by this paragraph until the inspection required by paragraph (j) of this AD is accomplished.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(1) If an initial general visual inspection is accomplished, and no crack is found, perform a dye penetrant inspection of the rudder pedal bracket assembly within 180 days after the general visual inspection, and thereafter accomplish dye penetrant inspections at intervals not to exceed 12 months or 2,500 landings, whichever occurs earlier. For airplane categories 3 and 4, repeat at this interval until the inspection required by paragraph (k) of this AD is accomplished.

(2) If an initial dye penetrant inspection is accomplished, and no crack is found, accomplish repetitive dye penetrant inspections at intervals not to exceed 12 months or 2,500 landings, whichever occurs earlier. For airplane categories 3 and 4, repeat at this interval until the inspection required by paragraph (k) of this AD is accomplished.

(3) If an initial special detailed inspection is accomplished after the effective date of this AD, and no crack is found, repeat the inspection in accordance with paragraph (k) of this AD.

Corrective Action

(h) Except as provided by paragraph (l) of this AD: If any crack is detected during any inspection required by paragraph (g) or (j) of this AD, before further flight, remove and replace the rudder pedal bracket assembly in accordance with the service bulletin. Prior to the accumulation of 40,000 total landings after replacement with the new part, resume the repetitive inspections in accordance with paragraph (g) or (k) of this AD, as applicable. Doing the action required by paragraph (l) of this AD terminates the requirements of this paragraph for airplane category 4.

Terminating Action for Certain Airplanes

(i) For airplane categories 3 and 4: Do the actions in paragraphs (i)(1) and (i)(2) of this AD in accordance with the Accomplishment Instructions of the service bulletin.

(1) Before the accumulation of 75,000 total landings on the captain's rudder pedal bracket assembly, P/N 5616067-501, or within 60 months after May 16, 2006, whichever occurs later: Remove the rudder pedal bracket assembly and replace it with new, improved P/N 5962903-501. Accomplishment of the replacement terminates the repetitive inspections of the captain's rudder pedal bracket assembly required by paragraphs (g), (h), (j), (k), and (l) of this AD.

(2) Before the accumulation of 75,000 total landings on the first officer's rudder pedal bracket assembly, P/N 5616068-501, or within 60 months after May 16, 2006, whichever occurs later: Remove the rudder pedal bracket assembly and replace it with new, improved P/N 5962904-501. Accomplishment of the replacement terminates the repetitive inspections of the first officer's rudder pedal bracket assembly required by paragraphs (g), (h), (j), (k), and (l) of this AD.

New Requirements of This AD

Revised Initial Inspection at Reduced Threshold for Certain Airplanes

(j) For airplane categories 2 and 4, at the applicable time specified in paragraph (j)(1), (j)(2) or (j)(3) of this AD: Do a special detailed inspection for cracking of the captain's and first officer's rudder pedal bracket, part numbers (P/N) 5616067 and 5616068, respectively, in accordance with the service bulletin. Doing this inspection terminates the inspection requirements of paragraphs (g) and (h) of this AD for airplane category 4.

(1) For category 2 airplanes: Before the accumulation of 40,000 total landings or within 30 days after the effective date of this AD, whichever occurs later.

(2) For category 4 airplanes that have accumulated fewer than 25,000 total landings as of the effective date of this AD: Before the accumulation of 25,000 total landings, or within 3,000 landings after the effective date of this AD, whichever occurs later.

(3) For category 4 airplanes that have accumulated 25,000 or more total landings as of the effective date of this AD, do the next inspection at the applicable time in paragraph (j)(3)(i) or (j)(3)(ii) of this AD.

(i) For category 4 airplanes on which the corrective action specified in paragraph (h) of this AD has not been accomplished, do the inspection within 3,000 landings after the effective date of this AD.

(ii) For category 4 airplanes on which the corrective action required by paragraph (h) of this AD has been accomplished, do the inspection at the earlier of the following: The next repetitive interval required by paragraph (h) of this AD; 40,000 total landings after doing the corrective action required by paragraph (h) of this AD; or 3,000 landings after the effective date of this AD.

Repetitive Inspections at Revised Interval for Certain Airplanes

(k) For airplane categories 3 and 4: Repeat the special detailed inspection required by paragraph (g) or (j) of this AD thereafter at intervals not to exceed 3,000 landings. Doing the first repetitive inspection required by this paragraph terminates the repetitive inspection requirements of paragraph (g) of this AD for airplane categories 3 and 4.

Corrective Action Including Reduced Inspection Threshold for Certain Airplanes

(l) For airplane category 4: If any crack is detected during any inspection required by paragraph (g), (j), or (k) of this AD: Before further flight, remove and replace the rudder pedal bracket assembly in accordance with the service bulletin. Before the accumulation of 25,000 total landings after replacement with the new part, resume the repetitive inspections in accordance with paragraph (k) of this AD. Doing the action in this paragraph terminates the requirements of paragraph (h) of this AD for airplane category 4.

Alternative Methods of Compliance (AMOCs)

(m)(1) The Manager, Los Angeles Aircraft Certification Office, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs, approved previously in accordance with AD 2006-07-25, amendment 39-14552; and AD 89-14-02, amendment 39-6245; are approved as AMOCs for the corresponding requirements of this AD.

Issued in Renton, Washington, on August 17, 2007.
Ali Bahrami,
Manager, Transport Airplane Directorate, Aircraft Certification Service.

[FR Doc. E7-17287 Filed 8-30-07; 8:45 am]

BILLING CODE 4910-13-P